SECURITIES AND EXCHANGE COMMISSION

Sunshine Act Meeting

Federal Register Citation of Previous Announcement: [67 FR 57255, September 9, 2002]

Status: Closed meeting.

Place: 450 Fifth Street, NW., Washington, DC.

Date and Time of Previously Announced Meeting: Thursday, September 12, 2002 at 4 p.m.

Change in the Meeting: Additional item.

The following item has been added to the Closed Meeting scheduled for Thursday, September 12, 2002 at 4 p.m.

Institution of administrative proceedings of an enforcement nature

Commissioner Campos, as duty officer, determined that Commission business required the above change and that no earlier notice thereof was possible.

At times, changes in Commission priorities require alterations in the scheduling of meeting items. For further information and to ascertain what, if any, matters have been added, deleted or postponed, please contact: The Office of the Secretary at (202) 942-7070.

Dated: September 12, 2002.
Margaret H. McFarland,
Deputy Secretary.

[FR Doc. 02-23662 Filed 9-12-02; 4:00 pm]

BILLING CODE 8010-01-P